ENVIRONMENTAL PROTECTION AGENCY

40 CFR Parts 60, 61, and 63

[EPA-R09-OAR-2021-0962; FRL-9400-02-R9]

Delegation of New Source Performance Standards and National Emission Standards for Hazardous Air Pollutants for the States of Arizona and California

AGENCY: Environmental Protection Agency (EPA).

ACTION: Direct final rule.

SUMMARY: The EPA is taking direct final action to update the Code of Federal Regulations delegation tables to reflect the current delegation status of New Source Performance Standards and National Emission Standards for Hazardous Air Pollutants in Arizona and California.

DATES: This rule is effective on May 31, 2022 without further notice unless EPA receives adverse comments by May 2, 2022. If we receive such comments, we will publish a timely withdrawal in the Federal Register to notify the public that this direct final rule will not take effect.

ADDRESSES: Submit your comments, identified by Docket ID No. EPA-R09-OAR-2021-0962 at https://www.regulations.gov, or via email to buss.jeffrey@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Jeffrey Buss, EPA Region IX, (415) 947-4152, buss.jeffrey@epa.gov.

SUPPLEMENTARY INFORMATION: Throughout this document, “we,” “us” and “our” refer to the EPA.

Table of Contents

I. Background

A. What is the purpose of this document?

B. Who is authorized delegate these authorities?

C. What does delegation accomplish?

D. What authorities are not delegated by the EPA?

E. Does the EPA keep some authority?

II. EPA Action

III. Statutory and Executive Order Reviews

I. Background

A. What is the purpose of this document?

Through this document, the EPA is accomplishing the following objectives:

(1) Update the delegation tables in the Code of Federal Regulations, title 40 (40 CFR), parts 60, 61, and 63 to provide an accurate listing of the delegated New Source Performance Standards (NSPS) and National Emission Standards for Hazardous Air Pollutants (NESHAP); and

(2) Clarify those authorities that the EPA retains and are not granted to state or local agencies as part of NSPS or NESHAP delegation.

Update of Tables in the CFR

This action will update the delegation tables in 40 CFR parts 60, 61, and 63, to allow easier access by the public to the status of delegations in various state or local jurisdictions. The updated delegation tables will include the delegations approved in response to recent requests, as well as those previously granted. The tables are shown at the end of this document.

Recent requests for delegation that will be incorporated into the updated 40 CFR parts 60, 61, and 63 tables are identified below. Each individual submittal identifies the specific NSPS and NESHAP for which delegation was requested. The requests have already been approved by letter and simply need to be included in the CFR tables.

Agency | Date of request | Date of approval by letter
Maricopa County Air Quality Department | December 9, 2020 and November 9, 2021 | April 8, 2021 and December 22, 2021.
Pima County Department of Environmental Quality | January 30, 2020 | April 21, 2020.
Antelope Valley Air Quality Management District | November 3, 2020 | January 14, 2022.
Monterey Bay Air Resources District | April 23, 2021 | January 14, 2022.
San Diego Air Pollution Control District | June 23, 2020 | April 8, 2021.

B. Who is authorized to delegate these authorities?

Sections 111(c)(1) and 112(l) of the Clean Air Act, as amended in 1990, authorizes the Administrator to delegate his or her authority for implementing and enforcing standards in 40 CFR parts 60, 61, and 63.

C. What does delegation accomplish?

Delegation grants a state or local agency the primary authority to implement and enforce federal standards. All required notifications and reports should be sent to the delegated state or local agency with a copy to EPA Region IX, as appropriate. Acceptance of delegation constitutes agreement by the state or local agency to follow 40 CFR parts 60, 61, and 63, and the EPA's test methods and continuous monitoring procedures.

D. What authorities are not delegated by the EPA?

In general, the EPA does not delegate to state or local agencies the authority to make decisions that are likely to be nationally significant or alter the stringency of the underlying standards. For a more detailed description of the authorities in 40 CFR parts 60 and 61 that are retained by the EPA, see 67 FR 20652 (April 26, 2002). For a more detailed description of the authorities in 40 CFR part 63 that are retained by the EPA, see 65 FR 55810 (September 14, 2000).

As additional assurance of national consistency, state and local agencies must send to EPA Region IX Enforcement Division's Air Section Manager a copy of any written decisions made pursuant to the following delegated authorities:

• Applicability determinations that state a source is not subject to a rule or requirement;

• approvals or determination of construction, reconstruction, or modification;

• minor or intermediate site-specific changes to test methods or monitoring requirements; or

• site-specific changes or waivers of performance testing requirements.

For decisions that require EPA review and approval (for example, major changes to monitoring requirements), the EPA intends to make determinations in a timely manner.

In some cases, the standards themselves specify that specific provisions cannot be delegated. State and local agencies should review each individual standard for this information.

E. Does the EPA keep some authority?

The EPA retains independent authority to enforce the standards and regulations of 40 CFR parts 60, 61, and 63.

II. EPA Action

This document serves to notify the public that the EPA is updating the 40 CFR parts 60, 61, and 63 tables for Arizona and California to codify recent delegations of NSPS and NESHAP as authorized under Sections 111(c)(1) and 112(1)(l) of the Clean Air Act.

III. Statutory and Executive Order Reviews

Under the Clean Air Act, the Administrator is required to approve delegation requests that comply with the provisions of the Act and applicable Federal regulations. 42 U.S.C. 7410(c) and 7412(l). Thus, in reviewing delegation submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the delegation submissions are not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 31, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Parts 60, 61, and 63

Environmental protection, Administrative practice and procedure, Air pollution control, Hazardous substances, Intergovernmental relations, Reporting and recordkeeping requirements.

Dated: March 17, 2022.
Elizabeth Adams,
Director, Air and Radiation Division, Region IX.

For the reasons set out in the preamble, title 40, chapter I, of the Code of Federal Regulations is amended as follows:

PART 60—[AMENDED]

1. The authority citation for part 60 is revised to read as follows:

Authority: 42 U.S.C. 7401 et seq.

Subpart A—General Provisions

2. Section 60.4 is amended as follows:

a. In paragraph (d)(1), Table 3 to Paragraph (d)(1) is revised;

b. In paragraphs (d)(2)(i), (v), and (vii) the tables are revised.

The revisions read as follows:

§ 60.4 Address.

* * * * *

(d) * * *

(1) * * *

Table 3 to Paragraph (d)(1)—Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X | X
Eb | Large Municipal Waste Combustors Constructed After September 20, 1994 | X | X | X |
Ec | Hospital/Medical/Infectious Waste Incinerators for Which Construction is Commenced After June 20, 1996 | X | X | X |
F | Portland Cement Plants | X |  | X | X
G | Nitric Acid Plants | X | X | X | X
Ga | Nitric Acid Plants For Which Construction, Reconstruction or Modification Commenced After October 14, 2011 |  | X | X |
H | Sulfuric Acid Plant | X | X | X | X
I | Hot Mix Asphalt Facilities | X | X | X | X
J | Petroleum Refineries | X |  | X | X
Ja | Petroleum Refineries for Which Construction, Reconstruction, or Modification Commenced After May 14, 2007 |  |  | X |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X |  | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X |  | X | X
Q | Primary Zinc Smelters | X |  | X | X
R | Primary Lead Smelters | X |  | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
BBa | Kraft Pulp Mill Sources for which Construction, Reconstruction or Modification Commenced after May 23, 2013 |  | X | X |
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 | X | X | X |
WW | Beverage Can Surface Coating Industry | X | X | X | X
XX | Bulk Gasoline Terminals | X | X | X | X
AAA | New Residential Wood Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X |  | X | X
GGGa | Equipment Leaks of VOC in Petroleum Refineries for Which Construction, Reconstruction, or Modification Commenced After November 7, 2006 | X |  | X |
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X |  | X | X
RRR | Volatile Organic Compound Emissions from Synthetic Organic Chemical Manufacturing Industry (SOCMI) Reactor Processes | X | X | X |
SSS | Magnetic Tape Coating Facilities | X | X | X | X
TTT | Industrial Surface Coating: Surface Coating of Plastic Parts for Business Machines | X | X | X | X
UUU | Calciners and Dryers in Mineral Industries | X | X | X |
VVV | Polymeric Coating of Supporting Substrates Facilities | X | X | X | X
WWW | Municipal Solid Waste Landfills | X | X | X |
XXX | Municipal Solid Waste Landfills that Commenced Construction, Reconstruction, or Modification After July 17, 2014 |  | X | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 | X | X | X |
EEEE | Other Solid Waste Incineration Units for Which Construction is Commenced After December 9, 2004, or for Which Modification or Reconstruction is Commenced on or After June 16, 2006 | X | X | X |
GGGG | (Reserved) |  |  |  |
HHHH | (Reserved) |  |  |  |
IIII | Stationary Compression Ignition Internal Combustion Engines | X | X | X |
JJJJ | Stationary Spark Ignition Internal Combustion Engines |  | X | X |
KKKK | Stationary Combustion Turbines | X | X | X |
LLLL | New Sewage Sludge Incineration Units |  |  | X |
MMMM | Emissions Guidelines and Compliance Times for Existing Sewage Sludge Incineration Units | X |  |  |
OOOO | Crude Oil and Natural Gas Production, Transmission, and Distribution |  | X | X |
OOOOa | Standards of Performance for Crude Oil and Natural Gas Facilities for Which Construction, Modification or Reconstruction Commenced After September 18, 2015 |  | X | X |
QQQQ | Standards of Performance for New Residential Hydronic Heaters and Forced-Air Furnaces |  | X | X |
TTTT | Standards of Performance for Greenhouse Gas Emissions for Electric Generating Units |  | X | X |

(2) * * *

(i) * * *

Table 4 to Paragraph (d)(2)(i)—Delegation Status for New Source Performance Standards for Amador County APCD, Antelope Valley AQMD, Bay Area AQMD, and Butte County AQMD
| Subpart | Air pollution control agency: Amador County APCD | Air pollution control agency: Antelope Valley AQMD | Air pollution control agency: Bay Area AQMD | Air pollution control agency: Butte County AQMD
A | General Provisions |  | X |  |
Ba | Adoption and Submittal of State Plans for Designated Facilities |  | X |  |
Cf | Emission Guidelines and Compliance Times for Municipal Solid Waste Landfills |  | X |  |
D | Fossil-Fuel Fired Steam Generators Constructed After August 17, 1971 |  | X | X |
Da | Electric Utility Steam Generating Units Constructed After September 18, 1978 |  | X | X |
Db | Industrial-Commercial-Institutional Steam Generating Units |  | X | X |
Dc | Small Industrial-Commercial-Institutional Steam Generating Units |  | X | X |
E | Incinerators |  | X | X |
Ea | Municipal Waste Combustors Constructed After December 20, 1989 and On or Before September 20, 1994 |  | X | X |
Eb | Large Municipal Waste Combustors Constructed After September 20, 1994 |  | X |  |
Ec | Hospital/Medical/Infectious Waste Incinerators for Which Construction is Commenced After June 20, 1996 |  | X |  |
F | Portland Cement Plants |  | X | X |
G | Nitric Acid Plants |  | X | X |
Ga | Nitric Acid Plants For Which Construction, Reconstruction or Modification Commenced After October 14, 2011 |  | X |  |
H | Sulfuric Acid Plant |  | X | X |
I | Hot Mix Asphalt Facilities |  | X | X |
J | Petroleum Refineries |  | X | X |
Ja | Petroleum Refineries for Which Construction, Reconstruction, or Modification Commenced After May 14, 2007 |  | X |  |
K | Storage Vessels for Petroleum Liquids for Which Construction, Reconstruction, or Modification Commenced After June 11, 1973, and Prior to May 19, 1978 |  | X | X |
Ka | Storage Vessels for Petroleum Liquids for Which Construction, Reconstruction, or Modification Commenced After May 18, 1978, and Prior to July 23, 1984 |  | X | X |
Kb | Volatile Organic Liquid Storage Vessels (Including Petroleum Liquid Storage Vessels) for Which Construction, Reconstruction, or Modification Commenced After July 23, 1984 |  | X | X |
L | Secondary Lead Smelters |  | X | X |
M | Secondary Brass and Bronze Production Plants |  | X | X |
N | Primary Emissions from Basic Oxygen Process Furnaces for Which Construction is Commenced After June 11, 1973 |  | X | X |
Na | Secondary Emissions from Basic Oxygen Process Steelmaking Facilities for Which Construction is Commenced After January 20, 1983 |  | X | X |
O | Sewage Treatment Plants |  | X | X |
P | Primary Copper Smelters |  | X | X |
Q | Primary Zinc Smelters |  | X | X |
R | Primary Lead Smelters |  | X | X |
S | Primary Aluminum Reduction Plants |  | X | X |
T | Phosphate Fertilizer Industry: Wet Process Phosphoric Acid Plants |  | X |  |
U | Phosphate Fertilizer Industry: Superphosphoric Acid Plants |  | X | X |
V | Phosphate Fertilizer Industry: Diammonium Phosphate Plants |  | X | X |
W | Phosphate Fertilizer Industry: Triple Superphosphate Plants |  | X | X |
X | Phosphate Fertilizer Industry: Granular Triple Superphosphate Storage Facilities |  | X | X |
Y | Coal Preparation and Processing Plants |  | X | X |
Z | Ferroalloy Production Facilities |  | X | X |
AA | Steel Plants: Electric Arc Furnaces Constructed After October 21, 1974 and On or Before August 17, 1983 |  | X | X |
AAa | Steel Plants: Electric Arc Furnaces and Argon-Oxygen Decarburization Vessels Constructed After August 7, 1983 |  | X | X |
BB | Kraft Pulp Mills |  | X | X |
BBa | Kraft Pulp Mill Sources for which Construction, Reconstruction or Modification Commenced after May 23, 2013 |  | X |  |
CC | Glass Manufacturing Plants |  | X | X |
DD | Grain Elevators |  | X | X |
EE | Surface Coating of Metal Furniture |  | X | X |
FF | (Reserved) |  |  |  |
GG | Stationary Gas Turbines |  | X | X |
HH | Lime Manufacturing Plants |  | X | X |
KK | Lead-Acid Battery Manufacturing Plants |  | X | X |
LL | Metallic Mineral Processing Plants |  | X | X |
MM | Automobile and Light Duty Trucks Surface Coating Operations |  | X | X |
NN | Phosphate Rock Plants |  | X | X |
PP | Ammonium Sulfate Manufacture |  | X | X |
QQ | Graphic Arts Industry: Publication Rotogravure Printing |  | X | X |
RR | Pressure Sensitive Tape and Label Surface Coating Operations |  | X | X |
SS | Industrial Surface Coating: Large Appliances |  | X | X |
TT | Metal Coil Surface Coating |  | X | X |
UU | Asphalt Processing and Asphalt Roofing Manufacture |  | X | X |
VV | Equipment Leaks of VOC in the Synthetic Organic Industry Chemicals Manufacturing |  | X | X |
VVa | Equipment Leaks of VOC in the Synthetic Organic Industry for Which Construction, Reconstruction, or Chemicals Manufacturing Modification Commenced After November 7, 2006 |  | X |  |
WW | Beverage Can Surface Coating Industry |  | X | X |
XX | Bulk Gasoline Terminals |  |  |  |
AAA | New Residential Wood Heaters |  | X | X |
BBB | Rubber Tire Manufacturing Industry |  | X | X |
CCC | (Reserved) |  |  |  |
DDD | Volatile Organic Compounds (VOC) Emissions from the Polymer Manufacturing Industry |  | X | X |
EEE | (Reserved) |  |  |  |
FFF | Flexible Vinyl and Urethane Coating and Printing |  | X | X |
GGG | Equipment Leaks of VOC in Petroleum Refineries |  | X | X |
GGGa | Equipment Leaks of VOC in Petroleum Refineries for Which Construction, Reconstruction, or Modification Commenced After November 7, 2006 |  | X |  |
HHH | Synthetic Fiber Production Facilities |  | X | X |
III | Volatile Organic Compound (VOC) Emissions From the Synthetic Organic Chemical Manufacturing Industry (SOCMI) Air Oxidation Unit Processes |  | X |  |
JJJ | Petroleum Dry Cleaners |  | X | X |
KKK | Equipment Leaks of VOC From Onshore Natural Gas Processing Plants |  | X | X |
LLL | Onshore Natural Gas Processing: SO2 Emissions |  | X |  |
MMM | (Reserved) |  |  |  |
NNN | Volatile Organic Compound (VOC) Emissions From Synthetic Organic Chemical Manufacturing Industry (SOCMI) Distillation Operations |  | X | X |
OOO | Nonmetallic Mineral Processing Plants |  | X | X |
PPP | Wool Fiberglass Insulation Manufacturing Plants |  | X | X |
QQQ | VOC Emissions From Petroleum Refinery Wastewater Systems |  | X |  |
RRR | Volatile Organic Compound Emissions from Synthetic Organic Chemical Manufacturing Industry (SOCMI) Reactor Processes |  | X |  |
SSS | Magnetic Tape Coating Facilities |  | X | X |
TTT | Industrial Surface Coating: Surface Coating of Plastic Parts for Business Machines |  | X | X |
UUU | Calciners and Dryers in Mineral Industries |  | X | X |
VVV | Polymeric Coating of Supporting Substrates Facilities |  | X | X |
WWW | Municipal Solid Waste Landfills |  | X |  |
XXX | Municipal Solid Waste Landfills that Commenced Construction, Reconstruction, or Modification After July 17, 2014 |  | X |  |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
DDDD | Emissions Guidelines and Compliance Times for Commercial and Industrial Solid Waste Incineration Units |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X |  |
JJJJ | Stationary Spark Ignition Internal Combustion Engines |  | X |  |
KKKK | Stationary Combustion Turbines |  | X |  |
LLLL | New Sewage Sludge Incineration Units |  | X |  |
MMMM | Emissions Guidelines and Compliance Times for Existing Sewage Sludge Incineration Units |  | X |  |
OOOO | Crude Oil and Natural Gas Production, Transmission, and Distribution |  | X |  |
OOOOa | Standards of Performance for Crude Oil and Natural Gas Facilities for Which Construction, Modification or Reconstruction Commenced After September 18, 2015 |  | X |  |
TTTT | Standards of Performance for Greenhouse Gas Emissions for Electric Generating Units |  | X |  |
UUUUa | Emission Guidelines for Greenhouse Gas Emissions From Existing Electric Utility Generating Units |  | X |  |

* * * * *

(v) * * *

Table 7 to Paragraph (d)(2)(v)—Delegation Status for New Source Performance Standards for Modoc County APCD, Mojave Desert AQMD, Monterey Bay Unified APCD, and North Coast Unified AQMD
| Subpart | Air pollution control agency: Modoc County APCD | Air pollution control agency: Mojave Desert AQMD | Air pollution control agency: Monterey Bay Unified APCD | Air pollution control agency: North Coast Unified AQMD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units |  | X | X |
E | Incinerators | X | X | X | X
Ea | Municipal Waste Combustors Constructed After December 20, 1989 and On or Before September 20, 1994 |  | X |  |
Eb | Large Municipal Waste Combustors Constructed After September 20, 1994 |  | X |  |
Ec | Hospital/Medical/Infectious Waste Incinerators for Which Construction is Commenced After June 20, 1996 |  | X |  |
F | Portland Cement Plants | X | X | X | X
G | Nitric Acid Plants | X | X | X | X
Ga | Nitric Acid Plants For Which Construction, Reconstruction or Modification Commenced After October 14, 2011 |  |  |  |
H | Sulfuric Acid Plant | X | X | X | X
I | Hot Mix Asphalt Facilities | X | X | X | X
J | Petroleum Refineries | X | X | X | X
Ja | Petroleum Refineries for Which Construction, Reconstruction, or Modification Commenced After May 14, 2007 |  | X |  |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 |  | X |  |
WW | Beverage Can Surface Coating Industry | X | X | X | X
XX | Bulk Gasoline Terminals |  |  |  |
AAA | New Residential Wood Heaters | X | X | X | X
BBB | Rubber Tire Manufacturing Industry | X | X | X | X
CCC | (Reserved) |  |  |  |
DDD | Volatile Organic Compounds (VOC) Emissions from the Polymer Manufacturing Industry | X | X | X |
EEE | (Reserved) |  |  |  |
FFF | Flexible Vinyl and Urethane Coating and Printing | X | X | X | X
GGG | Equipment Leaks of VOC in Petroleum Refineries | X | X | X | X
GGGa | Equipment Leaks of VOC in Petroleum Refineries for Which Construction, Reconstruction, or Modification Commenced After November 7, 2006 |  | X |  |
HHH | Synthetic Fiber Production Facilities | X | X | X | X
III | Volatile Organic Compound (VOC) Emissions From the Synthetic Organic Chemical Manufacturing Industry (SOCMI) Air Oxidation Unit Processes |  | X |  |
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X |
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes |  | X |  |
SSS | Magnetic Tape Coating Facilities | X | X | X | X
TTT | Industrial Surface Coating: Surface Coating of Plastic Parts for Business Machines | X | X | X | X
UUU | Calciners and Dryers in Mineral Industries |  | X | X |
VVV | Polymeric Coating of Supporting Substrates Facilities |  | X | X | X
WWW | Municipal Solid Waste Landfills |  | X | X |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X | X |
JJJJ | Stationary Spark Ignition Internal Combustion Engines |  | X | X |
KKKK | Stationary Combustion Turbines |  | X | X |
LLLL | New Sewage Sludge Incineration Units |  |  |  |
OOOO | Crude Oil and Natural Gas Production, Transmission, and Distribution |  |  |  |

(vii) * * *

Table 9 to Paragraph (d)(2)(vii)—Delegation Status for New Source Performance Standards for San Diego County APCD, San Joaquin Valley Unified APCD, San Luis Obispo County APCD, and Santa Barbara County APCD
| Subpart | Air pollution control agency: San Diego County APCD | Air pollution control agency: San Joaquin Valley Unified APCD | Air pollution control agency: San Luis Obispo County APCD | Air pollution control agency: Santa Barbara County APCD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X |
Eb | Large Municipal Waste Combustors Constructed After September 20, 1994 | X | X |  | X
Ec | Hospital/Medical/Infectious Waste Incinerators for Which Construction is Commenced After June 20, 1996 | X |  |  | X
F | Portland Cement Plants | X | X | X |
G | Nitric Acid Plants | X | X | X |
Ga | Nitric Acid Plants For Which Construction, Reconstruction or Modification Commenced After October 14, 2011 |  |  |  |
H | Sulfuric Acid Plant | X | X | X |
I | Hot Mix Asphalt Facilities | X | X | X | X
J | Petroleum Refineries | X | X | X | X
Ja | Petroleum Refineries for Which Construction, Reconstruction, or Modification Commenced After May 14, 2007 |  |  |  | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X |
Na | Secondary Emissions from Basic Oxygen Process Steelmaking Facilities for Which Construction is Commenced After January 20, 1983 | X | X | X |
O | Sewage Treatment Plants | X | X | X | X
P | Primary Copper Smelters | X | X | X |
Q | Primary Zinc Smelters | X | X | X |
R | Primary Lead Smelters | X | X | X |
S | Primary Aluminum Reduction Plants | X | X | X |
T | Phosphate Fertilizer Industry: Wet Process Phosphoric Acid Plants | X | X | X |
U | Phosphate Fertilizer Industry: Superphosphoric Acid Plants | X | X | X |
V | Phosphate Fertilizer Industry: Diammonium Phosphate Plants | X | X | X |
W | Phosphate Fertilizer Industry: Triple Superphosphate Plants | X | X | X |
X | Phosphate Fertilizer Industry: Granular Triple Superphosphate Storage Facilities | X | X | X |
Y | Coal Preparation and Processing Plants | X | X | X |
Z | Ferroalloy Production Facilities | X | X | X |
AA | Steel Plants: Electric Arc Furnaces Constructed After October 21, 1974 and On or Before August 17, 1983 | X | X | X |
AAa | Steel Plants: Electric Arc Furnaces and Argon-Oxygen Decarburization Vessels Constructed After August 7, 1983 | X | X | X |
BB | Kraft Pulp Mills | X | X | X |
CC | Glass Manufacturing Plants | X | X | X | X
DD | Grain Elevators | X | X | X | X
EE | Surface Coating of Metal Furniture | X | X | X |
FF | (Reserved) |  |  |  |
GG | Stationary Gas Turbines | X | X | X | X
HH | Lime Manufacturing Plants | X | X | X |
KK | Lead-Acid Battery Manufacturing Plants | X | X | X |
LL | Metallic Mineral Processing Plants | X | X | X |
MM | Automobile and Light Duty Trucks Surface Coating Operations | X | X | X |
NN | Phosphate Rock Plants | X | X | X |
PP | Ammonium Sulfate Manufacture | X | X | X |
QQ | Graphic Arts Industry: Publication Rotogravure Printing | X | X | X |
RR | Pressure Sensitive Tape and Label Surface Coating Operations | X | X | X |
SS | Industrial Surface Coating: Large Appliances | X | X | X |
TT | Metal Coil Surface Coating | X | X | X |
UU | Asphalt Processing and Asphalt Roofing Manufacture | X | X | X |
VV | Equipment Leaks of VOC in the Synthetic Organic Industry Chemicals Manufacturing | X | X | X |
VVa | Equipment Leaks of VOC in the Synthetic Organic Industry for Which Construction, Reconstruction, or Chemicals Manufacturing Modification Commenced After November 7, 2006 |  |  |  | X
WW | Beverage Can Surface Coating Industry | X | X | X |
XX | Bulk Gasoline Terminals |  |  |  |
AAA | New Residential Wood Heaters | X | X | X | X
BBB | Rubber Tire Manufacturing Industry | X | X | X |
CCC | (Reserved) |  |  |  |
DDD | Volatile Organic Compounds (VOC) Emissions from the Polymer Manufacturing Industry | X | X |  |
EEE | (Reserved) |  |  |  |
FFF | Flexible Vinyl and Urethane Coating and Printing | X | X | X |
GGG | Equipment Leaks of VOC in Petroleum Refineries | X | X | X |
GGGa | Equipment Leaks of VOC in Petroleum Refineries for Which Construction, Reconstruction, or Modification Commenced After November 7, 2006 |  |  |  | X
HHH | Synthetic Fiber Production Facilities | X | X | X |
III | Volatile Organic Compound (VOC) Emissions From the Synthetic Organic Chemical Manufacturing Industry (SOCMI) Air Oxidation Unit Processes | X | X |  |
JJJ | Petroleum Dry Cleaners | X | X | X |
KKK | Equipment Leaks of VOC From Onshore Natural Gas Processing Plants | X | X | X |
LLL | Onshore Natural Gas Processing: SO2 Emissions | X | X | X |
MMM | (Reserved) |  |  |  |
NNN | Volatile Organic Compound (VOC) Emissions From Synthetic Organic Chemical Manufacturing Industry (SOCMI) Distillation Operations | X | X |  |
OOO | Nonmetallic Mineral Processing Plants | X | X | X | X
PPP | Wool Fiberglass Insulation Manufacturing Plants | X | X | X |
QQQ | VOC Emissions From Petroleum Refinery Wastewater Systems | X | X | X |
RRR | Volatile Organic Compound Emissions from Synthetic Organic Chemical Manufacturing Industry (SOCMI) Reactor Processes | X | X | X |
SSS | Magnetic Tape Coating Facilities | X | X | X |
TTT | Industrial Surface Coating: Surface Coating of Plastic Parts for Business Machines | X | X | X |
UUU | Calciners and Dryers in Mineral Industries | X | X | X | X
VVV | Polymeric Coating of Supporting Substrates Facilities | X | X | X | X
WWW | Municipal Solid Waste Landfills | X | X | X | X
AAAA | Small Municipal Waste Combustion Units for Which Construction is Commenced After August 30, 1999 or for Which Modification or Reconstruction is Commended After June 6, 2001 | X |  |  | X
CCCC | Commercial and Industrial Solid Waste Incineration Units for Which Construction Is Commenced After November 30, 1999 or for Which Modification or Reconstruction Is Commenced on or After June 1, 2001 | X |  |  | X
EEEE | Other Solid Waste Incineration Units for Which Construction is Commenced After December 9, 2004, or for Which Modification or Reconstruction is Commenced on or After June 16, 2006 | X |  |  | X
GGGG | (Reserved) |  |  |  |
HHHH | (Reserved) |  |  |  |
IIII | Stationary Compression Ignition Internal Combustion Engines | X |  |  | X
JJJJ | Stationary Spark Ignition Internal Combustion Engines | X |  |  | X
KKKK | Stationary Combustion Turbines | X |  |  | X
LLLL | New Sewage Sludge Incineration Units |  |  |  |
OOOO | Crude Oil and Natural Gas Production, Transmission, and Distribution |  |  |  |
QQQQ | Standards of Performance for New Residential Hydronic Heaters and Forced-Air Furnaces | X |  |  |
TTTT | Standards of Performance for Greenhouse Gas Emissions for Electric Generating Units | X |  |  |

* * * * *

[FR Doc. 2022-06279 Filed 3-30-22; 8:45 am]

BILLING CODE 6560-50-P